DEPARTMENT OF AGRICULTURE

Office of the Secretary

Privacy Act of 1974; Revision of Systems of Records and Proposed New Routine Uses

AGENCY: Department of Agriculture (USDA).

ACTION: Notice of revisions to Privacy Act Systems of Records.

SUMMARY: Pursuant to the Privacy Act (5 U.S.C. 552a), the United States Department of Agriculture (USDA) gives notice that it proposes to amend five Privacy Act Systems of Records maintained by the Risk Management Agency (RMA).

EFFECTIVE DATE: The revised systems notices and the proposed routine uses will become effective 40 days after publication, unless modified by a subsequent notice to incorporate public comments. Comments on this notice must be received on or before January 10, 2008 to be assured consideration.

FOR FURTHER INFORMATION CONTACT: Pam Bollinger, Chief, Underwriting Standards Branch, Risk Management Agency, Federal Crop Insurance Corporation, 6501 Beacon Drive, Stop 0812, Kansas City, MO 64133-4676, telephone (816) 926-7176, electronic mail pam.bollinger@usda.gov.

SUPPLEMENTARY INFORMATION: USDA and RMA propose to amend the five Privacy Act Systems of Records listed below to add a single new routine use to each:

(1) USDA/FCIC-2, Compliance Review Cases, which was last published in full at 67 FR 68559, on November 12, 2002;

(2) USDA/FCIC-8, List of Ineligible Producers, which was last published in full at 72 FR 523, on January 5, 2007;

(3) USDA/FCIC-9, Agent, which was last published in full at 68 FR 55362, on September 25, 2003;

(4) USDA/FCIC-10, Policyholder, which was last published in full at 67 FR 68086, on November 8, 2002; and

(5) USDA/FCIC-11, Loss Adjuster, which was last published in full at 68 FR 15426, on March 31, 2003.

The Risk Management Agency, a component of USDA that administers programs of the Federal Crop Insurance Corporation (FCIC), a wholly-owned Government Corporation, maintains these systems. Each of the systems listed is being revised to add two additional new routine uses. The first new routine use permits disclosure of certain electronic records which have been incorporated in electronic format into this system through the Comprehensive Information Management System (CIMS) in accordance with the Farm Security and Rural Investment Act of 2002, section 10706.

CIMS is a system of computer programs and databases, physically located in Kansas City, Missouri, that is jointly maintained by the Farm Service Agency (FSA) and RMA utilizing the services of an information technology contractor. CIMS contains producer, program, and land information from FSA, RMA, and approved insurance providers (AIPs), as defined in section 502(b) of the Federal Crop Insurance Act (7 U.S.C. 1502(b)). CIMS acts as a repository of data and also combines, reconciles, defines, translates, and formats data in such a manner so it can be used by entities that have authorized access to CIMS.

CIMS will be used to help RMA and FSA administer their programs by allowing the agencies to discover and correct errors in reporting and assist the producers in providing consistent information to FSA, RMA, and AIPs.

The electronic information collected in CIMS will be disclosed to FSA and AIPs under contract with RMA and further disclosed to the AIP's insurance agents and loss adjusters. The electronic information may also be disclosed to any contractor engaged in the development or maintenance of CIMS. Such disclosures are necessary to administer and enforce requirements of the Federal crop insurance programs, an integral part of the USDA farm program system. To ensure that AIPs, and their insurance agents and loss adjusters, are only receiving information related to their specific insureds, all requests for information provided through CIMS will be automatically validated by CIMS software. Validation is accomplished by checking producer information provided directly to CIMS by data requestors against an RMA-maintained database of accepted policies incorporated into CIMS. AIPs will be required to sign a non-disclosure statement before accessing CIMS to preclude them from using the information for an unauthorized purpose or releasing the information to an unauthorized person or the public.

FSA and any contractor engaged in the development or maintenance of CIMS will have access to all RMA data incorporated into CIMS. RMA data in CIMS will only be disclosed to the AIPs, their insurance agents and loss adjusters, for information associated with their insured producers and only with regard to such producers' farming operations contained in counties covered by their policies. The RMA data disclosed through access to CIMS data consist of: (1) Standardized records containing identifying information on entities such as the name, address, tax identification number (social security number or employer identification number) and entity type; (2) the name, address, and tax identification number of individuals having a substantial beneficial interest in an ineligible individual or legal entity; and (3) information related to ineligibility such as date and cause of ineligibility, date of notification letter, and current status.

RMA may also be releasing FSA data through CIMS to contractors, the AIPs, their insurance agents and loss adjusters, for information associated with their insured producers and only with regard to such producers' farming operations contained in counties covered by their policies. The FSA data provided by CIMS will include: (1) Electronic Producer and Member Entity Information, including a common producer name, address, tax identifier, identity type, and entity file; (2) current and prior crop year electronic report acreage information reported to FSA by producers, and acreage determined by FSA, as applicable, and farm and producer identifiers; (3) electronic production data/information used by both FSA and RMA to establish program benefits; (4) The farm/tract/field numbers associated with the common land units (CLUs) through the unique CLU identifier. A CLU is an electronic representation of the boundaries of a piece of land, represented in latitudes and longitudes. It is the smallest unit of land that has a permanent, contiguous boundary; common land cover and land management; common owner; and common producer association; and (5) digital imagery and geospatial data layer containing common land unit boundaries, calculated acres, State and county codes, and unique identifier, calculated acres and State and county codes for States the AIPs have contracted with RMA to sell crop insurance.

USDA is adding the second new routine pursuant to instruction from the Office of Management and Budget, in its May 22, 2007, Memorandum for the Heads of Executive Departments and Agencies, M-07-16, on the subject of Safeguarding Against and Responding to the Breach of Personally Identifiable Information. This second new routine use will permit release of information to described types of persons and entities for the purpose of remediation of a breach of confidentiality.

A “Report on New System,” required by 5 U.S.C. 552a (r) as implemented by the Office of Management and Budget Circular A-130, was sent to the Chairman, Committee on Homeland Security and Governmental Affairs, United States Senate; the Chairman, Committee on Oversight and Government Reform, House of Representatives; and the Administrator, Office of Information and Regulatory Affairs, Office of Management and Budget.

Dated: December 3, 2007.
Charles F. Conner,
Acting Secretary.

USDA/FCIC-2

System Name: Compliance Review Cases, USDA/FCIC-2.

* * * * *

Routine uses of records maintained in the system including categories of uses and the purposes of such uses:

(8) Disclosure to the Comprehensive Information Management System (CIMS) authorized under the Farm Security and Rural Investment Act of 2002, Section 10706. All information disclosed to CIMS may be further disclosed to any contractor engaged in the development or maintenance of CIMS and to the Farm Service Agency (FSA) and approved insurance providers as necessary to carry out the tasks referred to in routine uses (6) and (7). Such disclosure may include not only the RMA information contained in this system of records, it may also include FSA data provided to CIMS, which includes: (1) Electronic Producer and Member Entity Information, including a common producer name, address, tax identifier, identity type, and entity file; (2) current and prior crop year electronic report acreage information reported to FSA by producers, and acreage determined by FSA, as applicable, and farm and producer identifiers; (3) electronic production data/information used by both FSA and RMA to establish program benefits; (4) The farm/tract/field numbers associated with the common land units (CLUs) through the unique CLU identifier—(A CLU is an electronic representation of the boundaries of a piece of land, demarcated in latitudes and longitudes. It is the smallest unit of land that has a permanent, contiguous boundary; common land cover and land management; common owner; and common producer association); and (5) digital imagery and geospatial data layer containing common land unit boundaries, calculated acres, State and county codes, and unique identifier, calculated acres and State and county codes for States the approved insurance providers have contracted with RMA to sell crop insurance.

(9) To appropriate agencies, entities, and persons when (1) USDA suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

* * * * *

USDA/FCIC-8

System Name: USDA/FCIC-8, List of Ineligible Producers:

* * * * *

Routine uses of records maintained in the system including categories of uses and the purposes of such uses:

(10) Disclosure to the Comprehensive Information Management System (CIMS) authorized under the Farm Security and Rural Investment Act of 2002, Section 10706. All information disclosed to CIMS may be further disclosed to the Farm Service Agency (FSA) and any contractor engaged in the development or maintenance of CIMS and to approved insurance providers, their insurance agents and loss adjusters, for information associated with their insured producers and only with regard to such producers' farming operations contained in counties covered by their policies. Such disclosure would include not only the RMA information contained in this system of records, it may also include FSA data provided to CIMS, which includes: (1) Electronic Producer and Member Entity information, including a common producer name, address, tax identifier, identity type, and entity file; (2) current and prior crop year electronic report acreage information reported to FSA by producers, and acreage determined by FSA, as applicable, and farm and producer identifiers: (3) Electronic production data/information used by both FSA and RMA to establish program benefits; (4) The farm/tract/field numbers associated with the common land units (CLUs) through the unique CLU identifier—(A CLU is an electronic representation of the boundaries of a piece of land, demarcated in latitudes and longitudes. It is the smallest unit of land that has a permanent, contiguous boundary; common land cover and land management; common owner; and common producer association); and (5) digital imagery and geospatial data layer containing common land unit boundaries, calculated acres, State and county codes, and unique identifier, calculated acres and State and county codes for States the approved insurance providers have contracted with RMA to sell crop insurance.

(11) To appropriate agencies, entities, and persons when (1) USDA suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

* * * * *

USDA/FCIC-9

System Name: Agent, USDA/FCIC-9:

* * * * *

Routine uses of records maintained in the system including categories of uses and the purposes of such uses:

* * * * *

(10) Disclosure to the Comprehensive Information Management System (CIMS) authorized under the Farm Security and Rural Investment Act of 2002, Section 10706. All information disclosed to CIMS may be further disclosed to any contractor engaged in the development or maintenance of CIMS and to the Farm Service Agency (FSA) and approved insurance providers the agent contact information (name, address, telephone number, e-mail address) with respect to particular producers, and access to all agent data to approved insurance providers with respect to the agents employed or contracted by the approved insurance provider and the policies insured by the approved insurance provider. Such disclosure may include not only the RMA information contained in this system of records, it may also include FSA data provided to CIMS, which includes: (1) Electronic Producer and Member Entity information, including a common producer name, address, tax identifier, identity type, and entity file: (2) Current and prior crop year electronic report, acreage, information reported to FSA by producers, and acreage determined by FSA, as applicable, and farm and producer identifiers: (3) Electronic production data/information used by both FSA and RMA to establish program benefits; (4) The farm/tract/field numbers associated with the common land units (CLUs) through the unique CLU identifier—(A CLU is an electronic representation of the boundaries of a piece of land, represented in latitudes and longitudes. It is the smallest unit of land that has a permanent, contiguous boundary; common land cover and land management; common owner; and common producer association); and (5) digital imagery and geospatial data layer containing common land unit boundaries, calculated acres, State and county codes, and unique identifier, calculated acres and State and county codes for States the approved insurance providers have contracted with RMA to sell crop insurance.

(11) To appropriate agencies, entities, and persons when (1) USDA suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

* * * * *

USDA/FCIC-10

System Name: Policyholder, USDA/FCIC-10:

* * * * *

Routine uses of records maintained in the system including categories of uses and the purposes of such uses:

(8) Disclosure to the Comprehensive Information Management System (CIMS) authorized under the Farm Security and Rural Investment Act of 2002, Section 10706. All information disclosed to CIMS may be further disclosed to any contractor engaged in the development or maintenance of CIMS, to the Farm Service Agency (FSA) and to approved insurance providers, their insurance agents and loss adjusters, for information associated with their insured producers and only with regard to such producers' farming operations contained in counties covered by their policies. Such disclosure would include not only the RMA information contained in this system of records, it may also include FSA data provided to CIMS, which includes: (1) Electronic Producer and Member Entity Information, including a common producer name, address, tax identifier, identity type, and entity file; (2) current and prior crop year electronic report acreage information reported to FSA by producers, and acreage determined by FSA, as applicable, and farm and producer identifiers; (3) electronic production data/information used by both FSA and RMA to establish program benefits; (4) The farm/tract/field numbers associated with the common land units (CLUs) through the unique CLU identifier—(A CLU is an electronic representation of the boundaries of a piece of land, represented in latitudes and longitudes. It is the smallest unit of land that has a permanent, contiguous boundary; common land cover and land management; common owner; and common producer association); and (5) digital imagery and geospatial data layer containing common land unit boundaries, calculated acres, State and county codes, and unique identifier, calculated acres and State and county codes for States the approved insurance providers have contracted with RMA to sell crop insurance.

(9) To appropriate agencies, entities, and persons when (1) USDA suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

* * * * *

USDA/FCIC-11

System Name: Loss Adjuster:

* * * * *

Routine uses of records maintained in the system including categories of uses and the purposes of such uses:

(8) Disclosure to the Comprehensive Information Management System (CIMS) authorized under the Farm Security and Rural Investment Act of 2002, Section 10706. All information disclosed to CIMS may be further disclosed to any contractor engaged in the development or maintenance of CIMS, the Farm Service Agency (FSA), or to approved insurance providers. Disclosed information may include loss adjuster contact information (name, address, telephone number, e-mail address) with respect to particular producers. In addition, all loss adjuster data may be disclosed to the approved insurance provider that has employed or contracted with the particular loss adjuster with respect to the claims insured by the approved insurance provider. Such disclosure would include not only the RMA information contained in this system of records, it may also include FSA data provided to CIMS, which includes: (1) Electronic Producer and Member Entity Information, including a common producer name, address, tax identifier, identity type, and entity file; (2) current and prior crop year electronic report acreage information reported to FSA by producers, and acreage determined by FSA, as applicable, and farm and producer identifiers; (3) electronic production data/information used by both FSA and RMA to establish program benefits; (4) The farm/tract/field numbers associated with the common land units (CLUs) through the unique CLU identifier—(A CLU is an electronic representation of the boundaries of a piece of land, represented in latitudes and longitudes. It is the smallest unit of land that has a permanent, contiguous boundary; common land cover and land management; common owner; and common producer association); and (5) digital imagery and geospatial data layer containing common land unit boundaries, calculated acres, State and county codes, and unique identifier, calculated acres and State and county codes for States the approved insurance providers have contracted with RMA to sell crop insurance.

(9) To appropriate agencies, entities, and persons when (1) USDA suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

* * * * *

[FR Doc. E7-23974 Filed 12-10-07; 8:45 am]

BILLING CODE 3410-05-P